DEPARTMENT OF COMMERCE

National Oceanic and Atmospheric Administration

50 CFR Part 679

[Docket No. 011219306-2283-02; I.D. 110501A]

RIN 0648-AM44

Fisheries of the Exclusive Economic Zone off Alaska; Revisions to Observer Coverage Requirements for Vessels and Shoreside Processors in the North Pacific Groundfish Fisheries; Correction

AGENCY: National Marine Fisheries Service (NMFS), National Oceanic and Atmospheric Administration (NOAA), Commerce.

ACTION: Final rule; correction.

SUMMARY: This document corrects a January 7, 2003, final rule that implemented changes to regulations governing the North Pacific Groundfish Observer Program (Observer Program) under 50 CFR part 679. The action is necessary to correct an error in cross reference that occurred in the final rule.

DATES: Effective June 20, 2003.

FOR FURTHER INFORMATION CONTACT: Patsy A. Bearden, 907-586-7008.

SUPPLEMENTARY INFORMATION: A final rule implementing changes to regulations governing the Observer Program was published in the Federal Register January 7, 2003 (68 FR 715). The final rule contained a cross reference error caused by renumbering of paragraphs. This action corrects this error.

Need for Corrections

The renumbering of paragraphs in the final rule erroneously affected a cross reference. Paragraph 679.50(a) is corrected by removing the reference to “(d)(4)” and adding in its place “(d)(5).”

Classification

Pursuant to 5 U.S.C. 553(b)(3)(B), the Assistant Administrator of Fisheries (AA), NOAA, finds good cause to waive prior notice and comment procedures otherwise required by the section. NOAA finds that prior notice and comment are unnecessary as this rule has a non-substantive effect on the public. This rule corrects an error in a recent amendment to regulations. This error was technical in nature because it was an incorrect citation to another section of the amended and re-numbered regulation. The public is unaffected by the correction. NOAA finds that because of the technical, non-substantive nature of the correction, there is no particular public interest in this rule for which there is need for prior notice and comment. For these reasons, the AA also finds good cause to waive the 30-day delayed effectiveness requirement of 5 U.S.C. 553(d).

List of Subjects in 50 CFR Part 679

Alaska, Fisheries, Recordkeeping and reporting requirements.

Dated: June 16, 2003.
Rebecca Lent,
Deputy Assistant Administrator for Regulatory Programs, National Marine Fisheries Service.

Accordingly, 50 CFR part 679 is corrected by making the following correcting amendment:

PART 679—FISHERIES OF THE EXCLUSIVE ECONOMIC ZONE OFF ALASKA

1. The authority citation for part 679 continues to read as follows:

Authority: 16 U.S.C. 773 et seq., 1801 et seq.; 3631 et seq.; Title II of Division C, Pub. L. 105-277; Sec 3027, Pub. L. 106-31; 113 Stat. 57; 16 U.S.C. 1540(f); and Sec. 209, Pub. L, 106-554.

§ 679.50 [Corrected]

2. In § 679.50, paragraph 679.50(a) is corrected by removing reference to “(d)(4)” and adding in its place “(d)(5).”

[FR Doc. 03-15802 Filed 6-20-03; 8:45 am]

BILLING CODE 3510-22-S